DEPARTMENT OF AGRICULTURE

Center for Nutrition Policy and Promotion; Notice of Proposal for Food Guide Graphic Presentation and Consumer Education Materials; Opportunity for Public Comment

AGENCY: Center for Nutrition Policy and Promotion, USDA.

ACTION: Notice.

SUMMARY: The Food Guide Pyramid, USDA's current food guide, is an educational tool that interprets and helps Americans use the Dietary Guidelines for Americans. It provides guidance on types and amounts of foods to eat that meet current scientific standards for healthful eating to help consumers assess and improve their diets. The USDA Center for Nutrition Policy and Promotion (CNPP) has initiated a broad-based review and update of the Pyramid, including its suggested food intake patterns, its graphic presentation, and new educational materials for professionals and consumers. The update is being conducted by USDA in consultation with the Department of Health and Human Services (HHS). This notice announces a proposed Food Guidance System for the food guide's graphic presentation and education materials. Written and oral public comments are solicited on the proposed Food Guidance System including ideas for a new food guide graphic. A public meeting will be held on August 19, 2004 for additional stakeholder input. Comments are welcomed on all aspects of the proposed Food Guidance System and are specifically requested on six topics described in this notice.

DATES: 1. Written comments on the proposed plan for revising the food guide's graphic presentation and consumer education materials can be submitted and must be received by the Agency on or before August 27, 2004.

2. A public meeting for stakeholder input will be held on August 19, 2004, from 9 a.m. to 12:30 p.m. Requests to participate in this meeting must be received by 5 p.m. e.d.t. on August 12, 2004.

ADDRESSES: 1. Submit written comments to Food Guide Pyramid Reassessment Team, USDA Center for Nutrition Policy and Promotion, 3101 Park Center Drive, Room 1034, Alexandria, VA 22302. No electronic written comments will be accepted or considered.

2. The public meeting for stakeholder input will be held at the Jefferson Auditorium, USDA South Building, 1400 Independence Avenue SW., Washington, DC. Submit requests to participate to respond@cnpp.usda.gov.

SUPPLEMENTARY INFORMATION:

I. Relationship to the Dietary Guidelines for Americans

The Food Guide Pyramid, USDA's current food guide, is an educational tool that interprets and helps Americans implement the Dietary Guidelines for Americans and other nutritional standards. Updating of the Pyramid is being coordinated with the review and revision of the Guidelines, a collaborative effort by USDA and the Department of Health and Human Services (HHS). Proposed Food Intake Patterns for the new food guide have been presented to and discussed with the 2005 Dietary Guidelines Advisory Committee for the purpose of obtaining the Committee's input into the process and outcomes. After receipt of the Committee report, the Food Intake Patterns will be finalized in consultation with HHS. The final Food Intake Patterns will reflect the recommendations of the 2005 Dietary Guidelines for Americans. The Dietary Guidelines and the final Food Intake Patterns will be used in development of all consumer messages and materials.

II. Background on the Food Guide Pyramid

USDA has provided food guidance to the American public for over 100 years; the Food Guide Pyramid is the current graphic representation of this guidance. The Pyramid was originally released in 1992. It was designed to help Americans make choices that are (1) adequate in meeting nutritional standards but (2) moderate in energy level and in food components often consumed in excess. Its goal was to make “total diet” recommendations. This differed from previous food guides that were concerned with adequacy only and were presented as “foundation diets” to which other foods could be added. What is “adequate” and “moderate” is determined by recommendations from established authoritative bodies, expert panels such as the Dietary Guidelines Advisory Committee and the National Academies of Sciences' Institute of Medicine (IOM) committees. These science-based daily food intake patterns form the foundation for both the graphic presentation of the food guidance and for consumer messages about appropriate food choices and amounts to eat. A full description of how the original food patterns for the Pyramid and the graphic presentation were developed has been published in “USDA's Food Guide Pyramid: Background and Development,” available at http://www.usda.gov/cnpp/pyramid.html. Proposed updates to the food intake patterns were described in a previous Federal Register notice (available at http://www.cnpp.usda.gov/pyramid-update/index.html). This earlier notice (68 FR 53536, September 11, 2003) solicited public comments on the proposed Food Intake Patterns. All comments that were received have been posted on the CNPP Web site (same URL as above) and are being considered in the development of the final Food Intake Patterns. These proposed food patterns were developed to meet current nutritional standards and were based on the same philosophical goals that were used in developing the original Pyramid—including the goals to represent a total diet that is both adequate and moderate. The updated food intake patterns also reflect current food consumption choices, in a nutrient dense form (with lowest fat and added sugars content), with amounts modified to meet nutritional goals. The nutritional standards for the proposed food patterns included the IOM Dietary Reference Intakes released between 1997 and 2002 and the 2000 Dietary Guidelines for Americans. Incorporation of nutritional standards from the 2004 IOM report on water and electrolytes is underway.

III. Proposal for a Food Guidance System for Graphic Presentation and Educational Materials

Most Americans are familiar with the Food Guide Pyramid, but few follow its recommendations in their entirety. The purpose for developing a new consumer presentation and materials is to help motivate consumers to put the food intake patterns into practice in order to improve their food choices. To accomplish this CNPP plans to develop and implement a system that includes focused messages and individualized educational tools. It is envisioned that the system will be delivered through multiple channels (e.g., print, internet, media) that connect with the individual and tailor information to their needs. The goals for this system are (1) to increase consumer awareness of the new science-based nutrition guidance, (2) to encourage consumers to make positive changes in their food choices, and (3) to educate consumers about food choices and amounts to eat.

To reach these goals, CNPP proposes a Food Guidance System that will (1) use a graphic image as a symbol to represent the overall system and (2) define and communicate specific nutritional guidance messages clearly through multiple channels and materials. Proposed components of this system are described in the following sections.

A. Motivational/Awareness Components

1. Graphic: CNPP proposes developing a graphic symbol to represent the Food Guidance System to the public and to identify/brand Food Guidance System materials. This graphic is not intended for use as a stand-alone educational tool because the food guidance messages to be conveyed are too complex for any single graphic. The rationale for this approach is described in section IV of this notice.

2. Slogan: CNPP also proposes to develop a concise statement to be used in conjunction with the graphic symbol. The slogan will be designed to encourage consumers to make healthy food choices. It will not specifically try to convey other educational messages, but may link with statements directing consumers to sources where they can access food guidance system educational messages and additional information.

B. Educational Components

1. Daily Food Intake Patterns: CNPP proposes using the revised Daily Food Intake Patterns to identify appropriate food choices and amounts, based on age, sex, and activity level. These food intake patterns list amounts to eat from five major food groups, as well as subgroups within the vegetable and grains groups. They also identify maximum amounts of added fats and sugars that fit within the caloric goal for each pattern. The proposed food intake patterns are the result of USDA's technical research process and were described at 68 FR 53539 of the September 11, 2003 Federal Register. The food intake patterns will be finalized after the 2005 Dietary Guidelines Advisory Committee report is completed. CNPP envisions that the intake patterns will be disseminated in their detailed format primarily to professionals. They will also form the basis for interactive and print consumer materials in a simplified or individualized format.

2. Core Messages and Framework: CNPP proposes developing a set of core messages for the Food Guidance System. These messages are intended to help individuals use the food intake patterns in selecting appropriate food choices and amounts. They will be used as the basis for development of educational materials. Federal agencies, health professionals, and nutrition educators may use the framework to incorporate the core messages into their nutrition education programs and materials. The core messages will give specific recommendations for making food choices and will be sufficiently detailed to be actionable. They are proposed as directional statements that will improve food choices for most Americans in comparison to their typical choices. The messages are intended to result in behavioral changes that will:

a. Keep caloric intake balanced with energy expenditure to prevent weight gain, promote weight loss, and/or maintain a healthy weight.

b. Promote nutrient dense food choices to increase the intake of vitamins, minerals, fiber, and other key nutrients, especially those that are often low in typical diets.

c. Lower chronic disease risks by lowering intake of saturated fats, trans fats, cholesterol, sodium, and other food components that are often consumed in excessive amounts.

3. Interactive personalized guidance tools: CNPP proposes developing a portfolio of interactive, educational tools for the new Food Guidance System that could be accessed through the Internet, CD-ROMs, or other venues. These tools will individualize food intake recommendations and help consumers make healthful food choices. They will also be designed to provide additional nutrition and health information for consumers “on demand.” For example, consumers would be able to access specific information about food sources of calcium if and when they want it. It is envisioned that these tools will provide varied levels of information based on a consumer's interest and needs. For example:

a. Level 1 will provide individualized daily food intake recommendations—identifying appropriate food choices and amounts from each food group and subgroup. These recommendations would be based on user-provided personal characteristics such as age, sex, height, weight, and physical activity level.

b. Level 2 will provide more individualized information to help consumers plan their food choices. It will allow users to make sample food choices and give them immediate visual feedback on how these choices compare to their personal food intake recommendations.

The interactive tools are not envisioned to replace but rather to work in concert with CNPP's existing Interactive Healthy Eating Index (IHEI) and Interactive Physical Activity Tool (IPAT). The new tools will provide links to the IHEI and IPAT for consumers wanting a detailed assessment of their own diet or physical activity level.

4. Print materials and tools: CNPP proposes developing print materials and tools to provide core consumer messages for specific target audiences such as schools, food assistance programs, and nutrition education programs. A visually appealing pamphlet and poster for a general consumer audience are currently planned as the first print materials to be developed.

All print materials will incorporate a subset of the consumer messages (educational component B2) that are appropriate for the target audience. For example, a poster intended for young children would include specific messages appropriate for this age group such as eating foods from each food group. The messages may be translated into words or visual images that are appropriate for the specific audience and material. Audiences with specific needs for materials, such as low literacy food program participants, will be identified. All print materials will incorporate the graphic symbol and slogan (motivational/awareness components 1 and 2) in addition to selected educational messages.

IV. Rationale for the Food Guidance System Approach

In planning the approach for the revised food guidance materials, the development, use of, and consumer understanding of the original graphic image were examined. The original Pyramid graphic was designed to be used in conjunction with a 32-page booklet of nutrition advice titled The Food Guide Pyramid. (The booklet is available on-line at http://www.usda.gov/cnpp/pyramid.html.) The booklet provides more detailed advice about making food choices for health than provided by the Pyramid graphic alone. However, many professionals and consumers are unaware of the educational booklet and assume that the Pyramid's nutritional guidance is limited to the information on the graphic image. During the development of the original Pyramid, extensive consumer research with several shapes was conducted to select and confirm which shape best communicated several key messages. Based on this research, the Pyramid shape was selected to communicate the messages of variety, proportionality, and moderation. Among the other shapes that were tested, the bowl shape was found to communicate the variety message well and it was considered appealing by many consumers. However, the bowl shape did not communicate the proportionality and moderation messages as well as the pyramid shape.

The Pyramid graphic has been widely used as a stand-alone educational tool. It appears on posters and on food packages and is used as a handout in health or nutrition education programs. In some instances, the general information in the graphic has been misinterpreted as specific advice. For example, the range of servings shown for each food group, intended to reflect caloric needs of the overall population, has been misunderstood to mean that an individual consumer can select any number of servings within the overall range. While the Pyramid graphic was not intended to provide complete nutritional guidance by itself, it has been successful in communicating several basic messages. Recent USDA research has found that many consumers can identify one or more of the key messages that the Pyramid graphic was intended to convey. For example, a number mentioned variety, moderation, or balance as “what the Pyramid graphic tells you to do.” Others referred to the concept of proportionality, stating that you should eat more from the base and less as you move up to the top. However, detailed messages about the food groups—placement, amounts to eat—were not well understood by consumers when viewing the graphic without supplemental materials.

Stakeholders have proposed adding more nutrition education concepts (e.g., types of fat, water, exercise, nutrient density) to the graphic. Depicting all of the key nutritional guidance messages on a single graphic may increase the complexity of the image to the point that it cannot be understood at all. Details about food group placement, for example, are already missed by most consumers. Rather than further complicating the image, the proposed plan is to simplify the graphic and use it as a symbol, to identify food guidance messages and materials and to remind consumers to make healthful food choices. Then, educational materials that communicate the key guidance messages will be developed and identified or “branded” by using the graphic symbol on these materials. To the extent possible, these guidance materials will be developed in formats that are individualized, specific, and concrete to assure that intended messages are clear and useful.

V. Process for Development of Consumer Materials

A. Consideration of All Comments and Ideas Received in Response to This Notice

CNPP will carefully consider all written and oral comments and suggestions received in response to this notice. All ideas submitted for the graphic symbol and for any educational materials can and may be used in the design and development process. It is understood that all ideas presented are offered freely for any potential use by USDA or others, and that no credit or other compensation will be made if these ideas are used.

B. Design and Testing Under Contract

CNPP is contracting to develop the consumer materials through the USDA contracting process. To assure consistency with anticipated Dietary Guidelines consumer materials and coordination of the “look and feel” of all Federal guidance materials, the development will be conducted in consultation with HHS. The contractor will be responsible for designing, developing, and consumer testing all of the Food Guidance System elements described in this notice. CNPP staff will work closely with the contractor and final decisions about all products will be made by USDA.

C. Consumer Research To Test Understanding, Appeal, Motivational Elements, Usability and Usefulness

As part of the design and development process, all potential images, messages, and materials will be tested with consumers to determine how well they communicate intended messages, how actionable they are, and how appealing they are to consumers. Results from the consumer research will be used to revise and finalize the materials. For many elements of the system, several rounds of consumer testing are envisioned to test early prototypes and then further refine the materials.

D. Finalization and Release

Release of initial materials is planned for early 2005. CNPP envisions that these initial materials will include the graphic symbol and slogan, the core consumer messages, level 1 of the interactive tool, a pamphlet, and a poster.

E. Implementation

CNPP plans to work with its Federal partners to implement the Food Guidance System. Guiding principles for use of all Food Guidance System materials will be developed. In addition, a plan for evaluation will be included as part of the development and implementation of all tools and materials. Implementation strategies include:

1. Internet accessibility of all materials: CNPP plans to make all print, graphic, and internet materials available in usable and/or downloadable format through the CNPP website. Additional web venues will also be explored to maximize the visibility and accessibility of the materials.

2. Partnerships: CNPP plans to work in coordination and collaboration with other information multipliers (such as educators) to foster widespread use of the food guide graphic, slogan, messages and materials. Partnerships may be sought with nutrition, health, and education organizations; trade associations; Federal, state, and local government agencies; and food companies. Guiding principles to maintain the integrity of the System and guidance messages and an organizational plan for partnerships will be developed within guidelines approved by the USDA Office of the General Counsel.

3. Media: CNPP plans to work with the media to create opportunities to increase accessibility and communication of the Food Guidance System messages and materials.

VI. Topics of Particular Interest To CNPP for Comment

Comments are welcomed on all aspects of the proposed Food Guidance System. CNPP has particular interest in receiving comments from the public on the following issues and questions:

A. Advantages and disadvantages of retaining current shape for graphic and other potential shapes to use as a representative of the overall Food Guidance System. The current graphic, the Food Guide Pyramid, has attained a high level of recognition among American consumers. The proposed new graphic is envisioned as a simplified symbol to represent the system but not provide detailed information. Is the high level of recognition that the pyramid shape has attained as a symbol of food guidance important in considering a shape for the new symbol? How is a pyramid shape viewed in relation to food guidance? How could USDA best capitalize on the recognition the original Pyramid has attained? Are there reasons that a different shape would be preferable? What other shapes or graphic ideas might better communicate dietary guidance messages?

B. Usefulness of the proposed strategies to highlight both motivational/awareness and educational messages. The proposed plan outlined in section III of this notice identifies both motivational/awareness elements and educational elements for the food guidance system. What are the pros and cons to implementing this strategy? How can these elements be designed to best complement each other? Would other strategies better communicate the multiple consumer messages of the food guidance system?

C. Advantages and disadvantages of the plan to individualize guidance in contrast to “generalized” messages. A major factor considered in the development of this proposed plan was that “one size” does not fit all for nutrition guidance. There are some universal messages such as the need for nutrients. However, with the rising incidence of obesity and overweight has come an increased need to focus on specific energy intake levels and therefore specific recommendations for types and amounts of food to consume. How can educational materials best be designed to provide this more specific guidance? What are the pros and cons of attempting to provide individualized rather than general guidance? What guidance messages are appropriate as general messages?

D. Advantages and disadvantages of the planned focus on core messages in contrast to use of a graphic to represent educational messages. The original Pyramid graphic was successful in communicating several basic concepts. However, many consumers have not grasped specific concepts such as food group placement and amounts recommended to eat by viewing the graphic alone. Now, additional issues and messages are being proposed for incorporation into food guidance for consumers. Given the number and complexity of food guidance messages that must be communicated, CNPP has proposed that the graphic not be considered as an educational tool to communicate all of these messages. A framework containing core educational messages is envisioned for use in the development of all materials, with the graphic used to identify or “brand” these materials as part of the Food Guidance System. Is this plan feasible? Is it preferable to using the graphic to communicate essential food guidance messages? What advantages and disadvantages are there in using the graphic as a symbol to represent the system rather than as an educational tool?

E. Key components for effective interactive educational tools. The premise for the educational components of the new Food Guidance System is to help consumers improve their food choices through use of personalized guidance. CNPP envisions doing this through development of interactive educational tools accessible through the internet, on CD-ROMs, or other venues. What makes an effective personalized or interactive tool? What information should be provided to help consumers who seek only basic information on appropriate food choices and amounts? What information should be added for consumers that want to plan and assess their diets? What elements should be developed to help consumers personalize their diets? What caveats should be considered in developing individualized guidance?

F. Channels of delivery for the Food Guidance System. Once the new Food Guidance System is released, what are the most efficient and effective ways to reach consumers? Are internet-based and print educational materials most accessible to educators (information multipliers) and consumers? CNPP has proposed using the internet as one of the key channels for delivering Food Guidance System elements. Are there audiences that will not be able to access this information? What alternatives are available for reaching these audiences?

VII. Public Disclosure and Availability of Comments

All comments submitted in response to this notice will be included in the record and will be made available to the public. Please be advised that the substance of the comments and the identities of the individuals or entities submitting the comments will be subject to public disclosure. CNPP plans to make the comments publicly available by posting a copy of all comments on the CNPP Web site at http://www.cnpp.usda.gov/pyramid-update.

Dated: July 2, 2004.
Eric J. Hentges,
Executive Director, Center for Nutrition Policy and Promotion.

[FR Doc. 04-15710 Filed 7-12-04; 8:45 am]

BILLING CODE 3410-30-P